DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of May 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or subdivision have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

None.

In the following case, the investigation revealed that the criteria for eligibility have not been met for the reasons specified.

The investigation revealed that criterion (a)(2)(A) (I.C.) (Increased imports) and (a) (2)(B) (II.B) (No shift in production to a foreign country) have not been met.

TA-W-50,828; Radisys Corp., Hillsboro, OR

TA-W-51,438; Commonwealth Sprague Capacitor, Power Systems Div., North Adams, MA

TA-W-51,538; Agrium U.S., Inc., Kenai Nitrogen Operations Div., a subsidiary of Agrium, Inc., Kenai, AK

TA-W-51,220; Wellington Leisure Products, Crivitz, WI

TA-W-51,284; ADC Telecommunications, Systems Integration Div., including leased workers of TPS Staffing and Apple One, Chickamauga, GA

TA-W-51,369; Bombardier Aerospace, Inc., Learjet, Inc., Wichita, KS

TA-W-50,721; CPM Electronic Industries, Roseville, MI

TA-W-51,198 & A; Oregon Log Homes, Sisters, OR and Maupin, OR

TA-W-51,199; Dura Automotive Systems, Stockton, IL

TA-W-51,188; Thunderbird Mining Co., a subsidiary of Eveleth Mines, LLC, Eveleth, MN

TA-W-51,731; Fishing Vessel (F/V) Verna-C, Sitka, AK

TA-W-51,049; Raytheon Aircraft Co., Wichita, KS

TA-W-51,579; Peavy Electronics Corp., Leakesville, MS

TA-W-51386; Avaya, Inc., Connectivity Solutions Div., Omaha, NE

TA-W-51468; Alliant Tech Systems, Inc., Twin Cities Army Ammunition Plant, Arden Hills, MN

TA-W-50,988; Indiana Steel and Wire LLC, Muncie, IN

TA-W-50,771; Spartech Corp., Spartech Plastics—Conneaut, Conneaut, OH

TA-W-50,852; Micro Instrument Co., Escondido, CA

The workers' firm does not produce an article as required for certification under section 222 of the Trade Act of 1974.

TA-W-50,970; On Semiconductor, Phoenix, AZ

TA-W-51,415; Washington Group, Manassas, VA

TA-W-51,449; IBM Global Services, a div. of IBM Corp., New York, NY

TA-W-51,469; Nortel Networks, Research Triangle Park, NC

TA-W-51,624; Stream International, Inc., a subsidiary of Solectron Corp., Silver City, NM

TA-W-51,721; Fishing Vessel (F/V) Towego, Ketchikan, AK

TA-W-51,689; Horace Mann Service Corp., Information Technology Div., Springfield, IL

TA-W-51,732; Union Tank Car Co., Longview, TX

TA-W-51,588; Zachry Construction Corp., formerly H.B. Zachry Co., Natchez, MO

TA-W-51,606; Descartes Systems (USA) LLC, an affiliate of The Descartes Systems Group, Inc., Pittsburgh, PA

TA-W-51,612; Gillette, Boston, MA

TA-W-51489; Alteon Training LLC, including Aviant Group, Long Beach, CA

TA-W-51,578; Earthlink, Inc., Pasadena, CA

TA-W-51,269A; Hamilton Beach/Proctor-Silex, Inc., a subsidiary of Nacco Industries, Inc., Washington, NC

The investigation revealed that criterion (a)(2)(A) (I.A) (no employment declines) have not been met.

TA-W-51,145; Halliburton Energy Services, Security DBS Manufacturing Div., Dallas, TX

TA-W-50,619 & A; Neenah Paper Co., a div. of Kimberly-Clark Corp., Neenah, WI and Stevens Point, WI

TA-W-51,515; Sanmina-SCI Corp., Wilmington, MA

The investigation revealed that criteria (a) has not been met. The workers, firm (or subdivision) is not a supplier or downstream producer to trade-affected companies.

TA-W-51,336; Manufacturers Pattern and Foundry Corp., Springfield, MA

Affirmative Determinations for Worker Adjustment Assistance

The following certifications have been issued; the date following the company name and location of each determination references the impact date for all workers of such determination.

The following certifications have been issued. The requirements of (a)(2)(A) (increased imports) of Section 222 have been met.

TA-W-51,278; Stanley Furniture Co., Lexington, NC: March 24, 2002

TA-W-51,650; Markwins Beauty Products, Inc., North Arlington, NJ: April 10, 2002.

TA-W-51,713; Markwins Beauty Products, Inc., Brooklyn, NY: April 10, 2002.

TA-W-51,642; Sweet-Orr, Anniston, AL: April 24, 2002.

TA-W-51,417; Leading Technologies, Inc., a wholly owned subsidiary of Composide, Inc., Leechburg, PA: March 21, 2002.

TA-W-51,379; Printed Fabrics Corp., Carrollton, GA: March 26, 2002.

TA-W-51,372; Enfield Industries, Conway, NH: March 29, 2002.

TA-W-51,592 & A; Woodard, LLC, Salisbury, NC and Maxton, NC: April 24, 2002.

TA-W-50,916; Miller Brewing Co., Tumwater Brewery, Tumwater, WA: February 18, 2002.

TA-W-50,921; NVF Hartwell, Container Div., Hartwell, GA: February 10, 2002.

TA-W-51,222; Parker Specialty Products, Engineered Seal Div., Waukesha, WI: March 17, 2002.

TA-W-50,781; Certifying Service Express (C.S.E.), Janesville, WI: January 31, 2002.

TA-W-50,659; Ametek, U.S. Gauge Div., Sellersville, PA: October 27, 2002.

TA-W-51,408; Motorola, Global Telecom Solutions Sector, CSMA Systems div., Arlington Heights, IL: April 1, 2002.

TA-W-51,702; Marion County Shirt Co., Springfield, MO: May 5, 2002.

TA-W-51,688; Nortech systems, Inc., Bemidji Operations, Bemidji, MN: March 13, 2002.

TA-W-51,582; Jagger Brothers, Springvale, ME: April 14, 2002.

TA-W-51,591; Fayscott LLC, Dexter, ME: April 16, 2002.

TA-W-51,529; Mistequay Group, Ltd, Katmai Manufacturing, Saginaw, MI: April 8, 2002.

TA-W-51,594; Jacobs Textiles, Irvington, NJ: April 23, 2002.

TA-W-51,383; American Video Glass Co., a div. of Sony Electronics, Inc., and Corning Asahi Video Products Co., Mount Pleasant, PA: March 25, 2002.

TA-W-51,393; Stillwater, Inc., Augusta Springs, VA: March 18, 2002.

TA-W-51,474; Seneca Sawmill Co., Eugene, OR: April 8, 2002.

TA-W-51,637; Sitka Sound Seafoods, North Pacific Processors, Inc., a wholly owned by Marubeni Corp., Yakutat, AK: January 21, 2002.

The following certifications have been issued. The requirements of (a)(2)(B) (shift in production) of Section 222 have been met.

TA-W-51,110; Moll Industries, Inc., Newberg, OR: March 5, 2002.

TA-W-51,550; Square D Co. including leased workers of Adecco Personnel, Ashville, NC: April 21, 2002.

TA-W-51,064; Dynamet, Inc., Arden Div., Washington, PA: February 17, 2002.

TA-W-51,631; Teleflex Automotive, Hillsdale, MI: April 24, 2002.

TA-W-51,501; Goodrich corp., Goodrich Landing Gear Div., Cleveland, OH: March 23, 2002.

TA-W-51,342; Hytek Finishes, Everett, WA: March 23, 2002.

TA-W-51,314; Tyco Healthcare Group, LP, a/k/a Mallinckrodt, Inc., Respiratory Div., including leased workers of Kelly Services, Inc., Irvine, CA: March 14, 2002.

TA-W-50,682; Sanborn Colorado LLC, Colorado Springs, CO: January 23, 2002.

TA-W-50,706; Oregon Steel Mills, Inc., Portland Steel Works, Portland, OR: January 27, 2002.

TA-W-50,819; Yarway Corp., a div. of Tyco International, Blue Bell, PA: January 22, 2002.

TA-W-51,695; Fishing Vessel (F/V) Vagabond Queen, Hoonah, AK: May 2, 2002.

TA-W-51,709; Nitrous Oxide Systems, Inc., a div. of Holly Performance Products, Bowling Green, KY: April 15, 2002.

TA-W-51,722; Fishing Vessel (F/V) Lisa III, Aleknagik, AK: May 6, 2002.

TA-W-51,725; Fishing Vessel (F/V) Glacier Point, Haines, AK: May 1, 2002.

TA-W-51,530; Photronics, Inc., Phoenix, AZ: April 11, 2002.

TA-W-51,573 & A; Agilent Technologies, Basic Electronic Systems & Test Unit, Loveland, CO and WBU Order Fulfillment, Loveland, CO: May 26, 2003.

TA-W-51,676; Fishing Vessel (F/V) Eileen J. II, Bethel, AK: April 24, 2002.

TA-W-51,401; SV Microwave Components Group, a div. of HCG Technologies, Inc., Largo, FL: March 31, 2002.

TA-W-51,462; Woodburn Diamond Die, Inc., Charlevoix, MI: April 4, 2002.

TA-W-51,504; Newport Corp., ISTD Div., Plymouth, MN: April 1, 2002.

TA-W-51,521; EMCO Flow Systems, Longmont, CO: April 16, 2002.

TA-W-50,434; Sanmina-SCI Corp., Watsonville, CA: December 19, 2001.

The following certification has been issued. The requirement of upstream supplier to a trade certified primary firm has been met.

TA-W-51,712; Fishing Vessel (F/V) Miss Molly, Dillingham, AK: May 6, 2002.

Also, pursuant to Title V of the North American Free Trade Agreement Implementation Act (Pub. L. 103-182) concerning transitional adjustment assistance hereinafter called (NAFTA-TAA) and in accordance with section 250(a), subchaper D, chapter 2, Title II, of the Trade Act as amended, the Department of Labor presents summaries of determinations regarding eligibility to apply for NAFTA-TAA issued during the month of May 2003.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

None.

The investigation revealed that the criteria for eligibility have not been met for the reasons specified.

The investigation revealed that the workers of the subject firm did not produce an article within the meaning of Section 250(a) of the Trade Act, as amended.

None.

Affirmative Determinations NAFTA-TAA

None.

I hereby certify that the aforementioned determinations were issued during the month of May 2003. Copies of these determinations are available for inspection in Room C-5311, U.S. Department of Labor, 200 Constitution Avenue, NW., Washington, DC 20210 during normal business hours or will be mailed to persons who write to the above address.

Dated: May 19, 2003.
Timothy Sullivan,
Director, Division of Trade Adjustment Assistance.

[FR Doc. 03-13811 Filed 6-2-03; 8:45 am]

BILLING CODE 4510-30-P